EXPORT-IMPORT BANK

[Public Notice 2020-3001]

Agency Information Collection Activities: Comment Request

AGENCY: Export-Import Bank of the United States.

ACTION: Submission for OMB review and comments request.

Form Title: EIB 84-01 Joint Application for Export Working Capital Guarantee.

SUMMARY: The Export-Import Bank of the United States (EXIM Bank), as part of its continuing effort to reduce paperwork and respondent burden, invites the general public and other Federal Agencies to comment on the proposed information collection, as required by the Paperwork Reduction Act of 1995.

DATES: Comments must be received on or before April 6, 2020, 2020 to be assured of consideration.

ADDRESSES: Comments may be submitted electronically on WWW.REGULATIONS.GOV or by mail to Office of Information and Regulatory Affairs, 725 17th Street NW, Washington, DC 20038, Attn: OMB 3048-0003.

SUPPLEMENTARY INFORMATION: The Export-Import Bank has made changes to the form to reflect an application process decoupled from the SBA's export working capital program. EXIM will also be moving forward to an electronic application submission process, which results in a stand-alone application versus the previous joint application with the SBA. Therefore, all references and information previously required from the SBA have been removed. There is one material change in the application to reflect EXIM's local cost support on short-term transactions, including working capital. Local costs are costs incurred in the buyer's country (i.e., local delivery, installation, taxes), eligible for EXIM cover, provided that: U.S. content requirements are met; included within the contracts; do not exceed 15% of export contract; and no local goods are included. Therefore, three questions are added to the application: Are local costs to be included under the working capital loan facility; if yes, how much in terms of USD or percentage per contract or invoice; and what is the nature of the local costs to be supported?

The application tool can be reviewed at: https://www.exim.gov/sites/default/files/pub/pending/eib84-01.pdf.

Title and Form Number: EIB 84-01 Application for Export Working Capital Guarantee.

OMB Number: 3048-0003.

Type of Review: Renewal.

Need and Use: This form provides EXIM Bank staff with the information necessary to determine if the application and transaction is eligible for EXIM Bank assistance under their export working capital guarantee program.

Affected Public: This form affects entities involved in the export of U.S. goods and services.

EXIM Bank

Annual Number of Respondents: 200.

Estimated Time per Respondent: 2 hours.

Annual Burden Hours: 400 hours.

Frequency of Reporting of Use: Annually.

Government Expenses:

EXIM Bank

Reviewing time per year: 300 hours.

Average Wages per Hour: $42.50.

Average Cost per Year (time * wages): $12,750.00.

Benefits and Overhead: 20%.

Total Government Cost: $15,300.00.

Bassam Doughman,
IT Project Manager, Office of the Chief Information Officer.

[FR Doc. 2020-04505 Filed 3-4-20; 8:45 am]

BILLING CODE 6690-01-P